DEPARTMENT OF ENERGY

Federal Energy Regulatory Commission

Combined Notice of Filings #1

Take notice that the Commission received the following electric corporate filings:

Docket Numbers: EC11-119-002.

Applicants: Gabelli, Mario J.

Description: Request for Reauthorization and Extension of Blanket Authorizations Under Section 203 of the Federal Power Act and Request for Expedited Consideration of Mario J. Gabelli, et al.

Filed Date: 1/25/18.

Accession Number: 20180125-5100.

Comments Due: 5 p.m. ET 2/15/18.

Take notice that the Commission received the following electric rate filings:

Docket Numbers: ER11-3376-004; ER11-3377-004; ER11-3378-004.

Applicants: North Hurlburt Wind, LLC, Horseshoe Bend Wind, LLC, South Hurlburt Wind, LLC.

Description: Notice of Non-Material Change in Status of North Hurlburt Wind, LLC, et. al.

Filed Date: 1/24/18.

Accession Number: 20180124-5164.

Comments Due: 5 p.m. ET 2/14/18.

Docket Numbers: ER14-2102-002.

Applicants: Danskammer Energy, LLC.

Description: Notice of Non-Material Change in Status of Danskammer Energy, LLC.

Filed Date: 1/25/18.

Accession Number: 20180125-5088.

Comments Due: 5 p.m. ET 2/15/18.

Docket Numbers: ER15-2680-007.

Applicants: Sandstone Solar LLC.

Description: Compliance filing: Sandstone Solar LLC Notice of Change in Status to be effective 1/26/2018.

Filed Date: 1/25/18.

Accession Number: 20180125-5116.

Comments Due: 5 p.m. ET 2/15/18.

Docket Numbers: ER16-474-006.

Applicants: Central Antelope Dry Ranch C LLC.

Description: Compliance filing: Central Antelope Dry Ranch C LLC Change in Status to be effective 1/26/2018.

Filed Date: 1/25/18.

Accession Number: 20180125-5103.

Comments Due: 5 p.m. ET 2/15/18.

Docket Numbers: ER16-890-006.

Applicants: Summer Solar LLC.

Description: Compliance filing: Summer Solar Notice of Change in Status to be effective 1/26/2018.

Filed Date: 1/25/18.

Accession Number: 20180125-5102.

Comments Due: 5 p.m. ET 2/15/18.

Docket Numbers: ER16-1255-005.

Applicants: Antelope Big Sky Ranch LLC.

Description: Compliance filing: Antelope Big Sky Ranch Change of Status to be effective 1/26/2018.

Filed Date: 1/25/18.

Accession Number: 20180125-5114.

Comments Due: 5 p.m. ET 2/15/18.

Docket Numbers: ER16-1901-005.

Applicants: Elevation Solar C LLC.

Description: Compliance filing: Elevation Solar C LLC Notice of Change in Status to be effective 1/26/2018.

Filed Date: 1/25/18.

Accession Number: 20180125-5099.

Comments Due: 5 p.m. ET 2/15/18.

Docket Numbers: ER16-1973-005.

Applicants: Western Antelope Blue Sky Ranch B LLC.

Description: Compliance filing: Western Antelope Blue Sky Ranch B Change in Status to be effective 1/26/2018.

Filed Date: 1/25/18.

Accession Number: 20180125-5115.

Comments Due: 5 p.m. ET 2/15/18.

Docket Numbers: ER16-2578-005.

Applicants: North Lancaster Ranch LLC.

Description: Compliance filing: North Lancaster Ranch Change in Status to be effective 1/26/2018.

Filed Date: 1/25/18.

Accession Number: 20180125-5110.

Comments Due: 5 p.m. ET 2/15/18.

Docket Numbers: ER18-713-000.

Applicants: CA Flats Solar 150, LLC.

Description: Baseline eTariff Filing: CA Flats Solar 150, LLC MBR Tariff to be effective 3/26/2018.

Filed Date: 1/25/18.

Accession Number: 20180125-5026.

Comments Due: 5 p.m. ET 2/15/18.

Docket Numbers: ER18-714-000.

Applicants: Southern California Edison Company.

Description: § 205(d) Rate Filing: Luz Solar Partners LTD., V LGIA Kramer Junction 5 Project SA No. 207, TOT694 to be effective 2/2/2018.

Filed Date: 1/25/18.

Accession Number: 20180125-5046.

Comments Due: 5 p.m. ET 2/15/18.

Docket Numbers: ER18-715-000.

Applicants: PJM Interconnection, L.L.C.

Description: § 205(d) Rate Filing: Original WMPA SA No. 4905; Queue No. AC2-196 to be effective 1/18/2018.

Filed Date: 1/25/18.

Accession Number: 20180125-5047.

Comments Due: 5 p.m. ET 2/15/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2018.
Nathaniel J. Davis, Sr.,
Deputy Secretary.

[FR Doc. 2018-01843 Filed 1-30-18; 8:45 am]

BILLING CODE 6717-01-P